DEPARTMENT OF STATE

[Public Notice 7701]

Additional Designation of Four Entities Pursuant to Executive Order 13382

AGENCY: Department of State.

ACTION: Designation of Nuclear Reactors Fuel Company (SUREH), Noor Afzar Gostar Company (NAGCO), Fulmen Group, and Yasa Part under E.O. 13382.

SUMMARY: Pursuant to the authority in section 1(ii) of Executive Order 13382, “Blocking Property of Weapons of Mass Destruction Proliferators and Their Supporters,” the State Department, in consultation with the Secretary of the Treasury and the Attorney General, has determined that four Iranian entities, Nuclear Reactors Fuel Company (SUREH), Noor Afzar Gostar Company (NAGCO), Fulmen Group, and Yasa Part, have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern.

DATES: The designation by the Deputy Secretary of State of the entities identified in this notice pursuant to Executive Order 13382 is effective on November 21, 2011.

FOR FURTHER INFORMATION CONTACT: Director, Office of Counterproliferation Initiatives, Bureau of International Security and Nonproliferation, Department of State, Washington, DC 20520, tel.: (202) 647-5193.

Background:

On June 28, 2005, the President, invoking the authority, inter alia, of the International Emergency Economic Powers Act (50 U.S.C. 1701-1706) (“IEEPA”), issued Executive Order 13382 (70 FR 38567, July 1, 2005) (the “Order”), effective at 12:01 a.m. eastern daylight time on June 30, 2005. In the Order the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

Information on the additional designees is as follows:

THE NUCLEAR REACTORS FUEL COMPANY (a.k.a.: SUREH. Location: 61 Shahid Abtahi St., Karegar e Shomali, Tehran; Persian Gulf Boulevard, Km20 SW Esfahan Road, Iran)

NOOR AFZAR GOSTAR COMPANY (a.k.a.: NAGCO, NAGC, Noor Afza Gostar. Location: 4th Floor, Bloc 1, Building 133, Mirdamad Avenue, Tehran, Iran; Opp Seventh Alley, Zarafrshan Street, Eivanak Street, Qods Township)

FULMEN GROUP (a.k.a.: Fulmen Company. Locations: 167, Darya Blvd., Saadat Abad, 1466983565, Iran; No. 167 Darya Blvd., Sharak Ghods, Tehran, Iran; P.O. Box 19395/1371, Tehran; No 57, Lida St, Valiassr Ave, 19697, Tehran, Iran; No. 57, Lida St, After Vanak Sq, Vali-e Asr Ave, 19697, Tehran, Iran; Sadat Abad, Shahra Qod (Shahrak Gharb), Darya Ave, 19697 Tehran, Iran)

YASA PART (a.k.a.: Arfa Paint Company, Arfeh Company, Farasepehr Engineering Company, Hosseini Nejad Trading Co, Iran Saffron Company or Iransaffron Co, Shetab G, Shetab Gaman, Shetab Trading, Y.A.S. Co Ltd. Locations: West Lavansai, Tehran, Iran, 009821; Sa'adat Abaad, Shahrdari Sq Sarv Building, 9th Floor, Unit 5, Tehran, Iran; No 17, Balooch Alley, Vaezi St, Shariati Ave, Tehran, Iran)

Dated: November 17, 2011.
William J. Burns,
Deputy Secretary, Department of State.

[FR Doc. 2011-30721 Filed 11-28-11; 8:45 am]

BILLING CODE 4710-27-P